UNITED STATES SENTENCING COMMISSION

Sentencing Guidelines for United States Courts

AGENCY: United States Sentencing Commission.

ACTION: Notice of final action regarding amendments to Federal sentencing guidelines effective November 1, 2006; correction.

SUMMARY: On May 1, 2006, the Commission submitted to Congress amendments to the federal sentencing guidelines and published these amendments in the Federal Register on May 15, 2006. See 71 FR 28063. The Commission has made technical and conforming amendments to commentary provisions related to those amendments and has made a correction to the amendatory language of one amendment.

DATES: The Commission has specified an effective date of November 1, 2006, for the amendments set forth in this notice.

FOR FURTHER INFORMATION CONTACT: Michael Courlander, Public Affairs Officer, telephone: (202) 502-4590.

SUPPLEMENTARY INFORMATION: The United States Sentencing Commission, an independent commission in the judicial branch of the United States government, is authorized by 28 U.S.C. 994(a) to promulgate sentencing guidelines and policy statements for federal courts. Section 994 also directs the Commission to review and revise periodically promulgated guidelines and authorizes it to submit guideline amendments to Congress not later than the first day of May each year. See 28 U.S.C. 994(o), (p). Absent an affirmative disapproval by the Congress within 180 days after the Commission submits its amendments, the amendments become effective on the date specified by the Commission (typically November 1 of the same calendar year). 28 U.S.C. 994(p).

Unlike amendments made to sentencing guidelines, amendments to commentary may be made at any time and are not subject to congressional review. To the extent practicable, the Commission endeavors to include amendments to commentary in any submission of guideline amendments to Congress. Occasionally, however, the Commission determines that technical and conforming changes to commentary are necessary in order to execute correctly the amendments submitted to Congress. This notice sets forth technical and conforming amendments to commentary related to the amendments submitted to Congress on May 1, 2006, that will become effective date on November 1, 2006. This notice also sets forth a correction to amendatory language.

Authority: USSC Rules of Practice and Procedure 4.1.

Ricardo H. Hinojosa,
Chair.

1. Amendment

The Commentary to § 2B1.1 captioned “Application Notes” is amended in Note 7(C) by striking “§ 2J1.7” and inserting “§ 3C1.3”.

The Commentary to § 2K2.1 captioned “Application Notes”, as amended by Amendment 9 submitted to Congress on May 1, 2006 (71 FR 28069.; USSG App. C (amendment 691)), is further amended in Note 3 by inserting “Definition of `Prohibited Person'.—” before “For purposes”; and in Note 11, as redesignated by Amendment 9 (USSG App. C (amendment 691)), by striking “Note 8” and inserting “Note 7”.

The Commentary to § 2K2.4 captioned “Application Notes” is amended in Note 4 by striking “(b)(5)” each place it appears and inserting “(b)(6)”.

Reason for Amendment: This amendment makes various technical and conforming amendments in order to execute properly amendments submitted to the Congress on May 1, 2006, and that will become effective on November 1, 2006. Specifically, the amendment conforms guideline references in the commentary of §§ 2B1.1 (Theft, Property Destruction, and Fraud), 2K2.1 (Unlawful Receipt, Possession, or Transportation of Firearms or Ammunition), and 2K2.4 (Use of Firearm, Armor-Piercing Ammunition, or Explosive During or in Relation to Certain Crimes) to redesignated guideline provisions and adds a heading to Application Note 3 in § 2K2.1.

2. Correction

In the Federal Register published on May 15, 2006 (71 FR 28063), make the following correction: On page 28071, in column 3, correct the second amendatory instruction to read as follows:

Section 2L1.1(c) is amended by striking “If any person” through the end of “Subpart 1” and inserting the following:

[FR Doc. E6-15782 Filed 9-26-06; 8:45 am]

BILLING CODE 2211-01-P